DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, February 20, 2014, 4:30 p.m. to February 20, 2014, 6:30 p.m., National Institutes of Health, Two Democracy Plaza, 6707 Democracy Boulevard, Bethesda, MD 20892 which was published in the Federal Register on January 22, 2014, 79 FR 03600.

The meeting will be held on March 7, 2014 from 12:00 p.m. until 1:00 p.m., National Institutes of Health, Two Democracy Plaza, 6707 Democracy Boulevard, Bethesda, MD 20897. The meeting is closed to the public.

Dated: February 10, 2014.
David Clary,
Program Analyst, Office of Federal Advisory Committee Policy.

[FR Doc. 2014-03217 Filed 2-13-14; 8:45 am]

BILLING CODE 4140-01-P